DEPARTMENT OF TRANSPORTATION

Federal Transit Administration

Over-the-Road Bus Accessibility Program Announcement of Project Selections

AGENCY: Federal Transit Administration, DOT.

ACTION: Notice.

SUMMARY: The U.S. Department of Transportation (DOT) Federal Transit Administration (FTA) announces the selection of projects to be funded under Fiscal Year 2005 appropriations for the Over-the-Road Bus (OTRB) Accessibility Program, authorized by Section 3038 of the Transportation Equity Act for the 21st Century (TEA-21). The OTRB Accessibility Program makes funds available to private operators of over-the-road buses to help finance the incremental capital and training costs of complying with DOT's over-the-road bus accessibility rule, published in the Federal Register on September 24, 1998.

FOR FURTHER INFORMATION CONTACT: The appropriate FTA Regional Administrator for grant-specific issues; or Blenda Younger, Office of Program Management, (202) 366-2053, for general information about the OTRB Program.

SUPPLEMENTARY INFORMATION: A total of $6.9 million was made available for the program in FY 2005: $5.2 million for intercity fixed-route providers and $1.7 million for all other providers, such as commuter, charter, and tour operators. A total of 120 applicants requested $33.7 million: $19.5 million was requested by intercity fixed-route providers, and $14.2 million was requested by all other providers. Project selections were made on a discretionary basis, based on each applicant's responsiveness to statutory project selection criteria, fleet size, and level of funding received in previous years. Because of the high demand for the funds available, most applicants received less funding than they requested, but almost all qualified applicants received some funding. The selected projects will provide funding for the incremental cost of adding lifts to 72 new vehicles, retrofitting 122 vehicles, and $53,099 for training. Each of the following 93 awardees, as well as the 27 applicants who were not selected for funding, will receive a letter that explains how funding decisions were made.

Award Amount
Operator | City/State | Intercity fixed-route | Other | Total
Region I
Arrow Line | E. Hartford, CT |  | $35,932 | $35,932
Bonanza Bus Lines | Providence, RI | $32,881 |  | 32,881
Concord Coach Lines, Inc. | Concord, NH | 46,800 |  | 46,800
Dartmouth Transportation Co., Inc. | Concord, NH | 23,900 |  | 23,900
DATTCO, Inc. | New Britain, CT | 35,000 |  | 35,000
M&L Transit Systems, Inc. | Woburn, MA |  | 35,000 | 35,000
Peter Pan Bus Lines | Springfield, MA | 31,461 |  | 31,461
Plymouth & Brockton | Plymouth, MA | 55,620 |  | 55,620
Premier Coach Company, Inc. | Colchester, VT |  | 26,980 | 26,980
Vermont Transit Co., Inc. | Burlington, VT | 40,557 |  | 40,557
Region II
Adirondack Trailways | Hurley, NY | 33,500 |  | 33,500
Blue Bird Coach Lines | N. Tonawanda, NY | 45,270 |  | 45,270
Hampton Jitney, Inc. | Southampton, NY | 59,412 |  | 59,412
Lion Trailways | Rio Grande, NJ | 88,673 |  | 88,673
Onondaga Coach Corp. | Auburn, NY |  | 25,200 | 25,200
Star Transit Company, Inc. | Trenton, NJ |  | 36,000 | 36,000
Sunrise Coach Lines, Inc. | Greenport, NY | 70,924 |  | 70,924
Syracuse and Oswego Coach | E. Syracuse, NY |  | 40,500 | 40,500
Utica Rome Bus Company | Clinton, NY |  | 42,750 | 42,750
Region III
Abbott Bus Lines, Inc. | Roanoke, VA |  | 39,600 | 39,600
Bieber Tourways | Kutztown, PA | 58,291 |  | 58,291
Buco Transportation/Campbell | Slippery Rock, PA |  | 24,040 | 24,040
David Thomas Tours, Inc. | Philadelphia, PA |  | 28,800 | 28,800
Dillon's Bus Service, Inc. | Millersville, MD | 27,000 |  | 27,000
First Priority Tours, Inc. | District Hgts., MD |  | 21,393 | 21,393
Fullington Trailways | Clearfield, PA | 51,485 |  | 51,485
Gold Line, Inc. | Tuxedo, MD | 82,000 |  | 82,000
Gunther Charters, Inc. | Hanover, MD |  | 26,100 | 26,100
James River Bus Lines | Richmond, VA | 27,000 |  | 27,000
Keller Transportation, Inc. | Waldorf, MD | 78,101 |  | 78,101
Morgan's Bus Tours, Inc. | Upper Marlboro, MD |  | 29,250 | 29,250
National Coach Works of Virginia | Tuxedo, MD | 42,000 |  | 42,000
Trans-Bridge Lines | Bethlehem, PA | 58,500 |  | 58,500
Region IV
American Charters, LTD. | Charlotte, NC |  | 24,000 | 24,000
American Coach of Atlanta, Inc. | Norcross, GA |  | 22,500 | 22,500
American Coach Lines Jacksonville | Jacksonville, FLA |  | 52,200 | 52,200
American Coach Lines Miami | Miami-Dade, FLA |  | 32,625 | 32,625
Angelic Tours and Shuttles | Fayetteville, NC |  | 40,000 | 40,000
Capitol City Transit Lines | Atlanta, GA |  | 36,000 | 36,000
Coach Ride, LLC | Starkville, MS |  | 25,200 | 25,200
Gentry Coach Company | Knoxville, TN |  | 25,179 | 25,179
Holiday Tours, Inc. | Marietta, GA |  | 27,816 | 27,816
Lancaster Tours Inc. | Lancaster, SC |  | 40,000 | 40,000
Midnight Sun Tours, Inc. | Lake Worth, FLA |  | 36,000 | 36,000
Royal Tours | Asheboro, NC |  | 45,360 | 45,360
Southern Coach Company | Durham, NC |  | 26,100 | 26,100
Region V
Badger Coaches, Inc. | Madison, WI | 117,495 |  | 117,495
Coach USA Indiana | Gary, IN | 36,504 |  | 36,504
Excellent Adventures, Inc. | Ft. Wayne, IN |  | 24,500 | 24,500
Indian Trails, Inc. | Owosso, MI |  | 19,210 | 19,210
Lakefront Lines Inc. | Brook Park, OH | 100,800 |  | 100,800
Lamers Bus Lines Inc. | Green Bay, WI | 62,175 |  | 62,175
Philipps Bus Service, Inc. | Winona, MN |  | 28,746 | 28,746
Pioneer Coach Lines, Inc. | Chicago, Il |  | 26,854 | 26,854
Ready Bus Line | La Crescent, MN |  | 30,275 | 30,275
River Trails Transit Lines, Inc. | Galena, IL |  | 27,644 | 27,644
Southeastern Trailways | Indianapolis, IN |  | 43,897 | 43,897
Southwest Coaches, Inc. | Marshall, MN |  | 43,734 | 43,734
Southwestern Illinois Bus Co. | Chester, IL |  | 27,000 | 27,000
St. Cloud Charter Service | St. Cloud, MN |  | 20,089 | 20,089
The Free Enterprise System, Inc. | Jeffersonville, IN |  | 25,645 | 25,645
Vandalia Bus Lines, Inc. | Caseyville, IL |  | 27,000 | 27,000
Van Galder Bus Company | Janesville, WI | 182,302 |  | 182,302
Wisconsin Coach Lines | Waukesha, WI | 40,500 |  | 40,500
Region VI
All Aboard America | Santa FE, NM |  | 22,510 | 22,510
Americanos USA, LLC | Dallas, TX | 162,228 |  | 162,228
AM Tour/Lone Star Coaches | Grand Prairie, TX |  | 25,000 | 25,000
Cowtown Bus Charters, Inc. | Ft. Worth, TX | 62,164 |  | 62,164
Crucero USA, LLC | Dallas, TX | 81,114 |  | 81,114
El Expreso Bus Company, Inc. | Houston, TX | 98,200 |  | 98,200
Fun Time Tours | Corpus Christi, TX |  | 48,600 | 48,600
Greyhound Lines, Inc. | Dallas, TX | 2,636,205 |  | 2,636,205
Gulf Coast Transportation | Houston, TX | 68,310 |  | 68,310
Hotard Motor Coaches, Inc. | New Orleans, LA |  | 44,193 | 44,193
Kerrville Bus Co. | San Antonio, TX | 194,400 |  | 194,400
Lone Star Trailways, Inc. | Tyler, TX |  | 34,972 | 34,972
Oklahoma Trailways, Inc. | Tulsa, OK |  | 36,000 | 36,000
Sierra Stage Coaches, Inc. | S. Houston, TX |  | 25,200 | 25,200
Si Texas Tours | Bandera, TX |  | 32,400 | 32,400
TNM&O | Lubbock, TX | 40,557 |  | 40,557
Valley Transit | Harlingen, TX | 40,557 |  | 40,557
Region VII
Arrow Stage Lines | Omaha, NE |  | 30,000 | 30,000
Burlington Trailways | W. Burlington, IA | 86,798 |  | 86,798
Prestige Transportation Systems | Wichita, Kansas |  | 34,920 | 34,920
Village Charters, Inc. | Wichita, Kansas |  | 46,589 | 46,589
Region VIII
No Awards |  |  |  |
Region IX
K-T Contract Services | N. Las Vegas, NV | 71,996 |  | 71,996
Roberts Hawaii | Honolulu, HI |  | 25,200 | 25,200
Sierra Trailways of California | Sacramento, CA | 43,149 |  | 43,149
Silverado Stages, Inc. | San Luis Obispo, CA | 60,421 |  | 60,421
Triple J Tours, Inc. | Las Vegas, NV |  | 37,791 | 37,791
Region X
MTR Western | Seattle, WA |  | 28,706 | 28,706
Northwestern Stage Lines | Spokane, WA | 33,750 |  | 33,750
Premier Alaska Tours, Inc. | Anchorage, AK |  | 25,200 | 25,200
Total |  | 5,208,000 | 1,686,400 | 6,894,400

Eligible project costs may be incurred by awardees prior to final grant approval. The incremental capital cost for adding wheelchair lift equipment to any new vehicles delivered on or after June 9, 1998, the effective date of TEA-21, is eligible for funding under the OTRB Accessibility Program.

Applicants selected for funding may be contacted by FTA regional offices if additional information is needed before grants are made. The grant applications will be sent to the U.S. Department of Labor (DOL) for certification under labor protection requirements pursuant to 49 U.S.C. 5333(b). After referring applications to affected employees represented by a labor organization, DOL will issue a certification to FTA. Terms and conditions of the certification will be incorporated in the FTA grant agreement under the new guidelines replacing those in 29 CFR Part 215. Please see Amendment to Section 5333(b), Guidelines to Carry Out New Programs Authorized by the Transportation Equity Act for the 21st Century (TEA-21); Final Rule (64 FR 40990, July 28, 1999).

Issued on: October 26, 2005.
Jennifer L. Dorn,
Administrator.

[FR Doc. 05-21722 Filed 10-31-05; 8:45 am]

BILLING CODE 4910-57-P